DEPARTMENT OF LABOR

Employment and Training Administration

Federal-State Unemployment Compensation Program: Availability of Benefit Accuracy Measurement Program Results

AGENCY: Employment and Training Administration (ETA), Labor.

ACTION: Notice of availability of the Unemployment Insurance (UI) Benefit Accuracy Measurement (BAM) program data for calendar year (CY) 2001.

SUMMARY: UI BAM program data for CY 2001 are published as part of the UI PERFORMS Annual Report, which is available on the ETA Office of Workforce Security Internet site—workforcesecurity.doleta.gov/unemploy/pdf/ar_01.pdf. An analytical summary of BAM data is available at workforcesecurity.doleta.gov/unemploy/pdf/bamcy2001.pdf.

The UI PERFORMS Annual Report also includes data from the Benefits Timeliness and Quality and Tax Performance System programs. UI PERFORMS is the Department of Labor's management system for promoting continuous improvement in UI performance. UI PERFORMS performance measures are designated either Tier I, for which minimum performance criteria have been established, or Tier II, for which no minimum performance standards have been established. The BAM paid claims accuracy rate is a Tier II measure.

States are not required to publish their BAM program data; however, persons wanting clarification or additional information concerning a specific state's report are encouraged to contact the individuals identified in the Appendix.

FOR FURTHER INFORMATION CONTACT: Andrew Spisak, Office of Workforce Security, Division of Performance Management, 202-693-3196 (this is not a toll free number) or e-mail: aspisak@doleta.gov.

SUPPLEMENTARY INFORMATION: State Workforce Agencies (SWA) in the 50 states, the District of Columbia, and Puerto Rico. select weekly random samples of UI benefit payments. The BAM program staff collects information about these payments by contacting claimants, employers, and third parties to determine whether the correct amounts of UI benefits were paid in accordance with state law, policy, and procedure. The results of the payment audits are recorded in automated databases in each state and in the Department of Labor's National Office in Washington, DC.

The Department of Labor publishes results from the BAM investigations annually. Five items are reported for each SWA participating in the BAM program: (1) The amount of UI benefits paid to the population of claimants; (2) the size of the BAM samples (number of completed cases); (3) the percentage of proper payments; (4) the percentage of overpayments; and (5) the percentage of underpayments in the population estimated from the BAM investigations. Ninety-five percent confidence intervals, which measure the precision of the payment accuracy estimates, are reported for each of the three percentages. CY 2001 BAM data for Colorado and Puerto Rico are not published because these SWAs did not complete a sufficient number of sample cases to produce statistically reliable estimates.

The CY 2001 UI PERFORMS Annual Report also includes background information and the data collection methodology for the BAM program. Graphs that display the distribution of overpayment rates for all states, national overpayment rates by year since CY 1988, and national cause and responsibility data for overpayments for the last nine years are also provided.

Additional BAM data are available at workforcesecurity.doleta.gov/unemploy/pdf/bamcy2001.pdf. This summary includes cause and responsibility data for both overpayments and underpayments, changes in state overpayment and underpayment rates between CY 2000 and CY 2001, and additional rates for recoverable overpayments and overpayment attributable to fraud or agency responsibility.

Readers are strongly cautioned that it may be misleading to compare one state's BAM overpayment and underpayment rates with the rates of other states. No two states' laws, regulations, and policies specifying eligibility conditions are identical. Differences among states in these conditions influence the potential for error. States with complex or strict eligibility conditions tend to have higher overpayment rates than states with simpler provisions because there is a greater chance that these conditions will not be met.

The underpayment rates estimated from BAM paid claims samples represent underpayments only for those claimants eligible for UI benefits. Underpayments also result from UI claims that have been erroneously denied. SWA BAM units began selecting samples of denied UC claims in August 2001. Because Denied Claims Accuracy (DCA) data are available for less than half of CY 2001, they are not included in the CY 2001 UI PERFORMS Annual Report. The Department plans to publish CY 2002 accuracy rates for monetary, separation, and nonseparation denials, based on a complete year of sampling and DCA investigation.

Signed at Washington, DC, on August 26, 2002.
Grace A. Kilbane,
Administrator, Office of Workforce Security.

Appendix—Unemployment Insurance Benefit Accuracy Measurement State Contacts

Alabama

Debbie C. Richbourg, Alabama Department of Industrial Relations, Benefits Unit, 649 Monroe Street, Montgomery, AL 36131. (334) 242-8133. e-mail: drichbourg@dir.state.al.us.

Alaska

Karen Van Dusseldorp, Department of Labor and Workforce Development QC Unit, P.O. Box 25509, Juneau, AK 99801. (907) 465-5946. e-mail: karen_vandusseldorp@labor.state.ak.us.

Arizona

Kristin Garrison, Department of Economic Security, 1924 E. University, Phoenix, AZ 85034. (602) 495-1861 ext. 1020. fax: (602) 253-8627. e-mail: kgarrison@mail.de.state.az.us.

Arkansas

Fred D. Carter, Program Operations Manager, Employment Security Department, P.O. Box 2981, Little Rock, AR 72203-2981. (501) 682-2142. e-mail: fred.carter.aesd@mail.state.ar.us.

Hugh Havens, Assistant Director for Unemployment Insurance, Arkansas Employment Security Department, P.O. Box 2981, Little Rock, AK 72203-2981. (501) 682-3200. e-mail: hugh.havens.aesd@mail.state.ar.us.

California

Suzanne Schroeder, Office of Constituent Affairs, Employment Development Department, P.O. Box 826880, Sacramento, CA 94280-0001. (916) 654-9029. e-mail: sschroed@edd.ca.gov.

Colorado

Luanne Clemons, 251 E. 12th Avenue, Denver, CO 80203. (303) 318-9025. e-mail: Luanne.Clemons@state.co.us.

Connecticut

Nancy Steffens, Director of Communications, Connecticut Department of Labor, 200 Folly Brook Boulevard, Wethersfield, CT 06109. (860) 263-6535. e-mail: nancy.steffens@po.state.ct.us.

Delaware

W. Thomas MacPherson, Director, Division of Unemployment Insurance, P.O. Box 9950, Wilmington, DE 19809-0950. (302) 761-8350. e-mail: tmacpherson@state.de.us.

District of Columbia

Roberta Bauer, Associate Director, Office of Compliance and Independent Monitoring, D.C. Department of Employment Services, 77 P Street, NE., Washington, DC 20012. (202) 671-3076. e-mail: Roberta.Bauer@dc.gov.

Florida

Sarah G. Peck, Agency for Workforce Innovation, Caldwell Building, 107 E. Madison Street, Tallahassee, Florida 32399. (850) 921-3425. e-mail: Sarah.Peck@awi.state.fl.us.

Georgia

Paul D. Crawford, Chief, Quality Assurance, Georgia Department of Labor, 148 International Blvd., NE., Suite 822, Atlanta, GA 30305. (404) 656-7242. e-mail: Paul.Crawford@dol.state.ga.us.

Hawaii

Linda Uesato, UI Administrator, Department of Labor and Industrial Relations, Unemployment Insurance Division, 830 Punchbowl Street, Honolulu, HI 96813. (808) 586-9069. fax: (808) 596-9077. e-mail: pdce@aloha.net (attn: L. Uesato).

Idaho

Robert Davis, Idaho Department of Labor, 317 W. Main Street, Boise, ID 83735. (208) 332-3573 ext. 3264. e-mail: bdavis@labor.state.id.us.

Illinois

Joseph Wojcik, Manager, Quality Assurance and Compliance Review, Illinois Department of Employment Security, 401 South State Street, Room 715, Chicago, IL 60605. (312) 793-1175. e-mail: Jwojcik@ides.state.il.us.

Indiana

Sandy Jessee, BAM Supervisor, Indiana Department of Workforce Development, 10 North Senate Avenue, Indianapolis, IN 46204. (317) 233-6676. e-mail: sjessee@dwd.state.in.us.

Iowa

LeLoie Dutemple, Quality Control Supervisor, Iowa Workforce Development, Unemployment Insurance Services Division, 1000 East Grand Avenue, Des Moines, IA 50319-0209. (515) 281-8398. e-mail: LeLoie.Dutemple@iwd.state.ia.us.

Kansas

Richard Skinner, Quality Control Supervisor, Department of Human Resources, 401 SW Topeka Blvd., Topeka, KS 66603-3182. (785) 296-1967. fax: (785) 296-4789. e-mail: raskinne@hr.state.ks.us.

Kentucky

Mark Butcher, Unemployment Insurance Division, Department for Employment Services, 275 East Main Street, Frankfort, KY 40621. (502) 564-5057. e-mail: MarkA.Butcher@mail.state.ky.us.

Louisiana

John Mikell, 706 East Vermillion, PO Box 3447, Lafayette, LA 70502-3447. (337) 262-5519. e-mail: JMikell@ldol.state.la.us.

Maine

Rhonda Webber, Maine Department of Labor, PO Box 2014, Lewiston, ME 04241-2014. (207) 753-2885. e-mail: Rhonda.Webber@state.me.us.

Maryland

Thomas S. Wendel, Executive Director, Office of Unemployment Insurance, Department of Labor, Licensing and Regulation, 1100 North Eutaw Street, Room 501, Baltimore, MD 21201. (410) 767-2464. e-mail: twendel@dllr.state.md.us.

Massachusetts

Rena Kottcamp, Assistant Director of Research, Division of Employment and Training, Charles F. Hurley Building, 19 Staniford Street, Boston, MA 02114-2589. (617) 626-6556. e-mail: rkottcamp@detma.org.

Michigan

Timothy Clinton, Director, Office of Program and Policy Administration, 3024 W. Grand Blvd., Suite 12-560, Detroit, MI 48202. (313) 456-2728. e-mail: ClintonTimothyJ@michigan.gov.

Constance Luckett, Director, Quality Assurance Section, 3024 W. Grand Blvd., Suite 13-400, Detroit, MI 48202. (313) 456-2490. e-mail: LuckettConstance@michigan.gov.

Minnesota

Barb Vickers, Minnesota Department of Economic Security, UI Benefits, 390 North Robert Street, 3rd Floor, St. Paul, MN 55101. (651) 296-5863. e-mail: Barb.vickers@state.mn.us.

Mississippi

Gary Harthcock, BAM Supervisor, Quality Control Unit, Employment Security Commission, P.O. Box 1699, Jackson, MS 39215-1699. (601) 961-7709.

Missouri

Gracia Yancey Backer, Director, Missouri Division of Employment Security, P.O. Box 59, Jefferson City, MO 65104. (573) 751-8086. e-mail: gbacker@dolir.state.mo.us.

Montana

Mary Buswell, Unemployment Insurance Division, P.O. Box 8020, Helena, MT 59624-8020. (406) 444-9037. fax: (406) 444-9038. e-mail: mbuswell@state.mt.us.

Nebraska

Ronald E. Joyce, UI Program Supervisor, Nebraska Workforce Development, Office of Unemployment Services, Department of Labor, 550 South 16th Street, Box 94600, Lincoln, NE 68509-4600. (402) 471-9876. fax: (402) 471-9966. e-mail: rjoyce@dol.state.ne.us.

Nevada

Karen Rhodes, Public Information Officer, Department of Employment, Training and Rehabilitation, 500 East Third Street, Carson City, NV 89713. (775) 684-4660. fax: (775) 684-4663. e-mail: ksrhodes@nvdetr.org.

New Hampshire

Patricia Nevers, Quality Control Supervisor, New Hampshire Employment Security, 32 South Main Street, Concord, NH 03301. (603) 228-4138. e-mail: pnevers@nhes.state.nh.us.

New Jersey

Thomas Hynes, Quality Control Supervisor, New Jersey Department of Labor, John Fitch Plaza “ 8th floor, P.O. Box 110, Trenton, New Jersey 08625. (609) 777-2654. fax: 609-777-2991. e-mail: thynes@dol.state.nj.us.

New Mexico

Teresa Baca, Section Supervisor, Quality Control, New Mexico Department of Labor, P.O. Box 1928, Albuquerque, NM 87102. (505) 841-8499 or (505) 841-8435. e-mail: tbaca2@state.nm.us.

New York

Louis M. Rosa, New York State Department of Labor, State Office Campus, UI Benefits Quality Control, Building 12, Room 257, Albany, NY 12240. (518) 457-3638. e-mail: USALMR@LABOR.STATE.NY.US.

North Carolina

Stan Linzsey, Employment Security Commission, Quality Control Unit, P.O. Box 25903, Raleigh, NC 27611. (919) 733-9104.

North Dakota

Bill Steckler, Job Service North Dakota, 1000 East Divide Avenue, P.O. Box 5507, Bismarck, ND 58506-5507. (701) 328-3355. e-mail: bsteckle@state.nd.us.

Ohio

Florence (Marge) Fields, Chief, UC Technical Services, ODJFS, 145 S. Front Street, Columbus, OH 43215. (614) 466-4581. e-mail: FIELDM01@odjfs.state.oh.us.

Oklahoma

Terry W. McHale, BAM Supervisor, Oklahoma Employment Security Commission, 715 S. Service Road, Moore, OK 73160. (405) 793-7286.

Oregon

James Mosley, Quality Control Supervisor, Oregon Employment Department, 875 Union Street NE., Salem, OR 97311. (503) 947-1684. e-mail: James.H.Mosley@emp.state.or.us.

Pennsylvania

Pete Cope, Director, Bureau of Unemployment Compensation Benefits and Allowances, Department of Labor and Industry, Labor and Industry Building, Room 615, Seventh and Forster Streets, Harrisburg, PA 17121. (717) 787-3547. e-mail: pcope@dli.state.pa.us.

Puerto Rico

Lucy Betancourt, Quality Control Supervisor, Department of Labor and Human Resources, Metro Center Building, P.O. Box 364452, Hato Rey, Puerto Rico 00936. (787) 754-5151 Ext. 2360. fax: (787) 756-1157.

Rhode Island

Ronald N. Patras, Department of Labor and Training, 1511 Pontiac Avenue, Bldg. 71, Cranston, RI 02920. (401) 462-8635. e-mail: RPatras@DLT.state.ri.us.

South Carolina

Susan Hair, BAM Supervisor, Employment Security Commission, Quality Control Unit, P.O. Box 8117, Columbia, SC 29202. (803) 737-3048. e-mail: shair@sces.org.

South Dakota

Dennis Angerhofer, South Dakota Department of Labor, 420 South Roosevelt Street, Aberdeen, SD 57401. (605) 626-7644. e-mail: dennis.angerhofer@state.sd.us.

Tennessee

Albert West, Tennessee Department of Labor And Workforce Development, Unemployment Insurance Division, Davy Crockett Tower, 10th Floor, 500 James Robertson Parkway, Nashville, TN 37245-2700. (615) 741-3190. e-mail: albert.west@state.tn.us.

Texas

Teresita La Rosa, Benefit Accuracy Measurement Supervisor, Texas Workforce Commission, 101 East 15th Street, Room 300, Austin, TX 78778. (512) 936-3629. e-mail: teresita.larosa@twc.state.tx.us.

Utah

Jeff Bardin, Department of Workforce Services, P.O. Box 778, Salt Lake City, UT 84110-0778. (801) 526-9537. e-mail: jbardin@ws.state.ut.us.

Vermont

Robert G. Herbst, Quality Control Supervisor, Vermont Department of Employment and Training, 200 Asa Bloomer Building, Rutland, VT 05701. (802) 786-8807. e-mail: rherbst@pop.det.state.vt.us.

Virginia

F. W. Tucker, IV, Chief of Benefits, Virginia Employment Commission, P.O. Box 1358, Richmond, VA 23218-1358. (804) 786-3032. e-mail: wtucker@vec.state.va.us.

Washington

Mary Kirker, QC supervisor, Employment Security Department, Employment Security Building, P.O. Box 9046, Olympia, WA 98507-9046. (360) 438-3101. fax: (360) 438-4085. e-mail: mkirker@esd.wa.gov.

West Virginia

Tammy G. Hypes, WV Bureau of Employment Programs, Special Projects Division, 106 Dee Drive, Charleston WV 25311. (304) 558-9065. e-mail: thypes@wvbep.org.

Wisconsin

John Mand, QC Section Chief, Wisconsin Department of Workforce Development, UI Division, 6083 North Teutonia Avenue, P.O. Box 09999, Milwaukee, WI 53209. (414) 438-2055. e-mail: mandj@dwd.state.wi.us.

Wyoming

Ellen Schreiner, Administrator, Unemployment Insurance Division, Wyoming Department of Employment, P.O. Box 2760, Casper, WY 82602-2760. (307) 235-3253. e-mail: eschre@state.wy.us.

[FR Doc. 02-22196 Filed 8-29-02; 8:45 am]

BILLING CODE 4510-30-P